DEPARTMENT OF DEFENSE

Office of the Secretary

[Transmittal No. 24-0C]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0C.

Dated: May 27, 2025.
Aaron T. Siegel,
Alternate OSD Federal Register Liaison Officer, Department of Defense.

Transmittal No. 24-0C

REPORT OF ENHANCEMENT OR UPGRADE OF SENSITIVITY OF TECHNOLOGY OR CAPABILITY (SEC. 36(B)(5)(C), AECA)

(i) Purchaser: Government of India

(ii) Sec. 36(b)(1), AECA Transmittal No.: 19-30

Date: July 26, 2019

Implementing Agency: Air Force

Funding Source: National Funds

(iii) Description: On July 26, 2019, Congress was notified by congressional certification transmittal number 19-30 of the possible sale, under Section 36(b)(1) of the Arms Export Control Act, of C-17 follow-on support, including spares and repair parts; support equipment; personnel training and training equipment; publications and technical documentation; support and test equipment; U.S. Government and contractor engineering, technical, and logistical support services; and other related elements of logistics and program support. The estimated total program cost was $670 million. There was no Major Defense Equipment (MDE) associated with this sale.

This transmittal notifies additional non-MDE follow-on support equipment, including aircraft components, parts, and accessories; Precision Measurement Equipment Laboratory (PMEL) calibration; and additional sustainment support, as previously notified. The estimated total cost of added non-MDE articles and services is $130 million. The total estimated case value will increase from $670 million to $800 million. There is no MDE associated with this sale.

(iv) Significance: The proposed sale will allow India to maintain and operate its C-17s in support of military operations, humanitarian assistance and disaster response, and other operations, thereby promoting interoperability, and regional security efforts.

(v) Justification: This proposed sale will support the foreign policy and national security objectives of the United States by helping to strengthen the U.S.-India strategic relationship and to improve the security of a major defensive partner that continues to be an important force for political stability, peace, and economic progress in the Indo-Pacific and South Asia region.

(vi) Date Report Delivered to Congress: April 2, 2024

[FR Doc. 2025-09789 Filed 5-29-25; 8:45 am]

BILLING CODE 6001-FR-P